CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed Retired and Senior Volunteer Program Survey. The survey will be administered to a sample of current RSVP volunteers to assess the distribution of volunteers across work plans, volunteer time, volunteer demographic information and level of psycho-social health and functioning. The survey is designed to allow CNCS to compare the results to a comparison group that is a representative sample of Americans age 50 and older.

Copies of the information collection request can be obtained by contacting the office listed in the Addresses section of this notice.

DATES: Written comments must be submitted to the individual and office listed in the ADDRESSES section by January 13, 2014.

ADDRESSES: You may submit comments, identified by the title of the information collection activity, by any of the following methods:

(1) By mail sent to: Corporation for National and Community Service, Senior Corps Program; Attention Anthony Nerino, Research Associate, Office #10913A; 1201 New York Avenue NW., Washington, DC, 20525.

(2) By hand delivery or by courier to the CNCS mailroom at Room 6010 at the mail address given in paragraph (1) above, between 9:00 a.m. and 4:00 p.m. Eastern Time, Monday through Friday, except Federal holidays.

(3) Electronically through the Corporation's email system to anerino@cns.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has contracted with JBS International to implement an exploratory evaluation of the Retired and Senior Volunteer Program. This evaluation will examine the distribution of volunteers by work areas to assess volunteer activity with regard to performance measurement requirements. The survey is designed to allow CNCS to compare the results to a comparison group that is a representative sample of Americans age 50 and older. Additionally, the study will assess the relationship between various service activities and potential psycho-social health benefits. Lastly this study will support two potential future studies assessing (1) the health benefits of national service and (2) links between volunteer data and performance measurement data provided by grantees.

Current Action

CNCS seeks public comment on a new data collection instrument. The instrument contains elements of the Health and Retirement Study (http://hrsonline.isr.umich.edu) survey instrument and items used previously by Senior Corps to assess its Senior Companion and Foster Grandparent programs. We have added additional questions on employment or retirement status of volunteers (given recent evidence of potential employment benefits of volunteering), volunteer activity in RSVP (given the programs wider scope of service), and volunteer satisfaction.

The information collection will otherwise be used in the same manner as the existing application. CNCS also seeks to continue using the current application until the revised application is approved by OMB. The current application is due to expire on Expiration Date.

Type of Review: Standard.

Agency: Corporation for National and Community Service.

Title: Retired and Senior Volunteer Program Survey.

OMB Number: TBD.

Agency Number: None.

Affected Public: Volunteers in the Retired and Senior Volunteer Program.

Total Respondents: 1570.

Frequency: One time.

Average Time per Response: Averages 30 minutes.

Estimated Total Burden Hours: 785.

Total Burden Cost (capital/startup): None.

Total Burden Cost (operating/maintenance): None.

Comments submitted in response to this notice will be summarized and/or included in the request for Office of Management and Budget approval of the information collection request; they will also become a matter of public record.

Dated: November 5, 2013.
Erwin Tan,
Director, Senior Corps.

[FR Doc. 2013-26944 Filed 11-8-13; 8:45 am]

BILLING CODE 6050-$$-P